EXPORT-IMPORT BANK

[Public Notice 2016 6020]

Agency Information Collection Activities: Comment Request

AGENCY: Export-Import Bank of the United States.

ACTION: Submission for OMB review and comments request.

Form Title: EIB 15-03 US Content Survey.

SUMMARY: The Export-Import Bank of the United States (Ex-Im Bank), as a part of its continuing effort to reduce paperwork and respondent burden, invites the general public and other Federal Agencies to comment on the proposed information collection, as required by the Paperwork Reduction Act of 1995.

Under Ex-Im Bank's Short and Medium-Term Insurance and Medium-Term Guarantee programs exported goods and services must meet established content requirement to be eligible for Ex-Im Bank financing and ensure that U.S.-jobs benefit from Ex-Im bank programs. Ex-Im Bank relied upon the exporter's self-certification of content was never verified. The small business exporter survey seeks to obtain feedback from customers on US content requirement. This survey will help Ex-Im Bank better understand small business customers' perspectives on the bank's existence, monitoring, ability to perform compliance on potential areas of concern for exporters and how Ex-Im Bank's requirement impacts their small business. The objective is to identify possible service improvements and better understand small business owners' experiences working with Ex-Im Bank.

The survey can be reviewed at: http://www.valuerecoveryholding.com/pending/surveyquestionnaire.html.

DATES: Comments should be received on or before March 23, 2016.

ADDRESSES: Comments may be submitted electronically on WWW.REGULATIONS.GOV or by mail to Office of Information and Regulatory Affairs, 725 17th Street NW., Washington, DC 20038, Attn: OMB 3048-14-01.

SUPPLEMENTARY INFORMATION: Titles and Form Number: EIB 15-03 Small Business Exporter Survey on U.S. Content Requirement

OMB Number: 3048-XXXX

Type of Review: Regular

Need and Use: The information requested enables Ex-Im Bank to identify possible service improvements to the benefit of small business exporters.

The number of respondents: 1,000.

Estimated time per respondent: 10 minutes.

The frequency of response: One time.

Annual hour burden: 167 total hours.

Government Expenses

Reviewing time per response: 5 minutes.

Responses per year: 1,000.

Reviewing time per year: 83.3 hours.

Average Wages per hour: $42.50.

Average cost per year: (time * wages) $3,541.67.

Benefits and overhead: 20%.

Total Government Cost: $4,250.

Bonita Jones-McNeil,
Program Analyst, Records Management Division.

[FR Doc. 2016-03582 Filed 2-19-16; 8:45 am]

BILLING CODE 6690-01-P